DEPARTMENT OF COMMERCE

National Oceanic and Atmospheric Administration

RIN 0648-XF305

Pacific Fishery Management Council; Public Meeting

AGENCY: National Marine Fisheries Service (NMFS), National Oceanic and Atmospheric Administration (NOAA), Commerce.

ACTION: Notice of public meeting.

SUMMARY: The Pacific Fishery Management Council (Pacific Council) will hold a meeting to review the methodology of the California Department of Fish and Wildlife/California Wetfish Producers Association aerial survey. The meeting is open to the public.

DATES: The meeting will be held Monday and Tuesday, April 17-18, 2017, from 8 a.m. to 5 p.m. each day, or when business for the day has been completed.

ADDRESSES: The meeting will be held in the Pacific Conference Room of the National Oceanic and Atmospheric Administration (NOAA) Southwest Fisheries Science Center, 8901 La Jolla Shores Dr., La Jolla, CA 92037-1508.

Council address: Pacific Fishery Management Council, 7700 NE Ambassador Place, Suite 101, Portland, OR 97220.

FOR FURTHER INFORMATION CONTACT: Kerry Griffin, Pacific Council; telephone: (503) 820-2409.

SUPPLEMENTARY INFORMATION: The purpose of the meeting is to provide technical and scientific review of the California Department of Fish and Wildlife/California Wetfish Producers Association aerial survey for Coastal Pelagic Species (CPS). This survey is being proposed for potential inclusion in stock assessments for CPS stocks managed by the Pacific Council. The methodology review panel will review the proposed survey, and will produce a report that will be considered by the Pacific Council at its June 2017 meeting in Spokane, WA.

Special Accommodations

This meeting is physically accessible to people with disabilities. Requests for sign language interpretation or other auxiliary aids should be directed to Mr. Dale Sweetnam (858) 546-7170 at least 10 days prior to the meeting date.

Dated: March 22, 2017.
Jeffrey N. Lonergan,
Acting Deputy Director, Office of Sustainable Fisheries, National Marine Fisheries Service.

[FR Doc. 2017-06004 Filed 3-24-17; 8:45 am]

BILLING CODE 3510-22-P